DEPARTMENT OF HEALTH AND HUMAN SERVICES

National Institutes of Health

Office of the Secretary; Notice of Meeting

Pursuant to section 10(a) of the Federal Advisory Committee Act, as amended, notice is hereby given of a meeting of the Muscular Dystrophy Coordinating Committee (MDCC).

The meeting will be open to the public as indicated below, with attendance limited to space available. Individuals who plan to participate and need special assistance, such as sign language interpretation or other reasonable accommodations, should notify the Contact Person listed below in advance of the meeting.

Name of Committee: Muscular Dystrophy Coordinating Committee.

Date: April 11, 2023.

Time: 1:00 p.m. to 5:00 p.m. EDT.

Agenda: The purpose of this meeting is to bring together committee members, representing government agencies, patient advocacy groups, other voluntary health organizations, and patients and their families to update one another on progress relevant to the Action Plan for the Muscular Dystrophies and to coordinate activities and discuss gaps and opportunities leading to better understanding of the muscular dystrophies, advances in treatments, and improvements in patients' and their families' lives. The agenda for this meeting will be available on the MDCC website: https://www.mdcc.nih.gov/.

Registration: To register, please go to: https://roseliassociates.zoomgov.com/webinar/register/WN_1r51-2vjR32Ol5FLjSnzlA.

Webcast Live: https://videocast.nih.gov/.

Place: National Institutes of Health, Building 31, C-Wing, 6th floor, 6C Room A&B, 31 Center St., Bethesda, MD 20892.

Contact Person: Glen Nuckolls, Ph.D., Program Director, National Institute of Neurological Disorders and Stroke (NINDS), NIH, 6001 Executive Blvd., Rm. 2203, Bethesda, MD 20892, 301-496-5876, MDCC@nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Additional Health and Safety Guidance: Before attending a meeting at an NIH facility, it is important that visitors review the NIH COVID-19 Safety Plan at https://ors.od.nih.gov/sr/dohs/safety/NIH-covid-19-safety-plan/Pages/default.aspx for information about requirements and procedures for entering NIH facilities, especially when COVID-19 community levels are medium or high. In addition, the Safer Federal Workforce website has FAQs for visitors at https://www.saferfederalworkforce.gov/faq/visitors/. Please note that if an individual has a COVID-19 diagnosis within 10 days of the meeting, that person must attend virtually. (For more information please read NIH's Requirements for Persons after Exposure at https://ors.od.nih.gov/sr/dohs/safety/NIH-covid-19-safety-plan/COVID-assessment-testing/Pages/persons-after-exposure.aspx and What Happens When Someone Tests Positive at https://ors.od.nih.gov/sr/dohs/safety/NIH-covid-19-safety-plan/COVID-assessment-testing/Pages/test-positive.aspx.) Anyone from the public can attend the open portion of the meeting virtually via the NIH Videocasting website (http://videocast.nih.gov). Please continue checking these websites, in addition to the committee website listed below, for the most up to date guidance as the meeting date approaches.

More information can be found on the Muscular Dystrophy Coordinating Committee home page: https://mdcc.nih.gov/.

Dated: March 13, 2023.
Miguelina Perez,
Program Analyst, Office of Federal Advisory Committee Policy.

[FR Doc. 2023-05476 Filed 3-16-23; 8:45 am]

BILLING CODE 4140-01-P